CONSUMER FINANCIAL PROTECTION BUREAU

Publication of FY 2021 Service Contract Inventory

AGENCY: Consumer Financial Protection Bureau.

ACTION: Notice of public availability of FY 2021 service contract inventory.

In accordance with section 734 of Division C of the Consolidated Appropriations Act of 2010, the Consumer Financial Protection Bureau (CFPB or Bureau) is publishing this notice to advise the public of the availability of the FY 2021 service contract inventory. This inventory provides information on service contract actions over $25,000, which the CFPB funded during FY 2021. The information is organized by function to show how contracted resources were used by the agency to support its mission. The inventory has been developed in accordance with the guidance issued by the Office of Management and Budget's Office of Federal Procurement Policy (OFPP). The CFPB has posted its inventory on the Bureau's Open Government homepage at the following link: https://www.consumerfinance.gov/open. If you require this document in an alternative electronic format, please contact CFPB_Accessibility@cfpb.gov.

FOR FURTHER INFORMATION CONTACT: Nikki Burley, Senior Procurement Analyst, Office of Procurement, at 202-435-0329, or Nikki.Burley@cfpb.gov.

Jocelyn Sutton,
Deputy Chief of Staff, Consumer Financial Protection Bureau.

[FR Doc. 2024-14585 Filed 7-2-24; 8:45 am]

BILLING CODE 4810-AM-P